SMALL BUSINESS ADMINISTRATION

[Disaster Declaration #20842 and #20843; HAVASUPAI TRIBE Disaster Number AZ-20008]

Presidential Declaration Amendment of a Major Disaster for Public Assistance Only for the Havasupai Tribe

AGENCY: U.S. Small Business Administration.

ACTION: Amendment 1.

SUMMARY: This is an amendment of the Presidential declaration of a major disaster for Public Assistance Only for the Havasupai Tribe (FEMA-4840-DR), dated October 25, 2024.

Incident: Flooding.

DATES: Issued on December 3, 2024.

Incident Period: August 22, 2024 through August 23, 2024.

Physical Loan Application Deadline Date: January 17, 2025.

Economic Injury (EIDL) Loan Application Deadline Date: July 25, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the Havasupai Tribe, dated October 25, 2024, is hereby amended to extend the deadline for filing applications for physical damage as a result of this disaster to January 17, 2025.

All other information in the original declaration remains unchanged.

(Catalog of Federal Domestic Assistance Number 59008)

Alejandro Contreras,
Acting Deputy Associate Administrator, Office of Disaster Recovery & Resilience.

[FR Doc. 2024-28923 Filed 12-9-24; 8:45 am]

BILLING CODE 8026-09-P